DEPARTMENT OF THE INTERIOR

National Park Service

[NPS-WASO-NRNHL-21773; PPWOCRADI0, PCU00RP14.R50000]

National Register of Historic Places; Notification of Pending Nominations and Related Actions

AGENCY: National Park Service, Interior.

ACTION: Notice.

SUMMARY: The National Park Service is soliciting comments on the significance of properties nominated before August 13, 2016, for listing or related actions in the National Register of Historic Places.

DATES: Comments should be submitted by September 19, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before August 13, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALASKA

Yukon-Koyukuk Borough—Census Area

Alaska Road Commission Cabin (Fritz's), (Iditarod Trail MPS), N. side of Hunter Trail, approx. 34 mi. from Ophir, Ophir, 16000649

ARKANSAS

Garland County

Hill Wheatley Downtowner Motor Inn, 135 Central Ave., Hot Springs, 16000650

Mississippi County

Wilson Commercial Historic District, Roughly bounded by Union Ave., S. Jefferson, Madison, Adams & 2nd Sts., Wilson, 16000651

Wilson Residential Historic District, 4737, 4785, 4877 & 5101 US 61, Wilson, 16000652

Ouachita County

Green Cemetery, W. of Cty. Rd. 1, Stephens, 16000653

Washington County

McNair, Wiley P., House, 301 Mountain St., Fayetteville, 16000654

Yell County

Mt. Nebo State Park Cabin No. 60, (Facilities Constructed by the CCC in Arkansas MPS), 10707 Cty. Rd. 102, Dardanelle, 16000656

Mt. Nebo State Park Cabin No. 61, (Facilities Constructed by the CCC in Arkansas MPS), 10775 Cty. Rd. 102, Dardanelle, 16000657

Mt. Nebo State Park Cabin No. 62, (Facilities Constructed by the CCC in Arkansas MPS), 10913 Cty. Rd. 102, Dardanelle, 16000658

Mt. Nebo State Park Cabin No. 63, (Facilities Constructed by the CCC in Arkansas MPS), 10919 Cty. Rd. 102, Dardanelle, 16000659

Mt. Nebo State Park Cabin No. 64, (Facilities Constructed by the CCC in Arkansas MPS), 10070 Cty. Rd. 93, Dardanelle, 16000660

Mt. Nebo State Park Cabin No. 65, (Facilities Constructed by the CCC in Arkansas MPS), 10034 Cty. Rd. 93, Dardanelle, 16000661

Mt. Nebo State Park Cabins Historic District, (Facilities Constructed by the CCC in Arkansas MPS), 10006, 10105, 10115 & 10129 Cty. Rd. 92, Dardanelle, 16000655

CALIFORNIA

Los Angeles County

Hollywood Palladium, 6215 Sunset Blvd., Los Angeles, 16000662

San Mateo County

Holbrook—Palmer Estate, “Elmwood”, 150 Watkins Ave., Atherton, 16000663

Santa Barbara County

Lompoc Veterans Memorial Building, 100 E. Locust Ave., Lompoc, 16000664

Santa Clara County

Miller Red Barn, 7049 Miller Ave., Gilroy, 16000665

COLORADO

Bent County

Santa Fe Trail Mountain Route—Bent's New Fort, (Santa Fe Trail MPS), Address Restricted, Lamar, 16000666

Gunnison County

Johnson Stage Station, 2.2 mi. S. of the jct. of Cty. Rd. 64 & US 149, Powderhorn, 16000667

Jefferson County

Romano, Samuel and Albina, House, 16300 S. Golden Rd., Golden, 16000668

LOUISIANA

Avoyelles Parish

Fort DeRussy, 379 Fort DeRussy Rd., Marksville, 16000669

Caddo Parish

Jacobs, Walter B., 5935 E. Ridge Dr., Shreveport, 16000670

Lafayette Parish

Bank of Scott, 1102 St. Mary St., Scott, 16000671

Orleans Parish

McDonogh 19 Elementary School, 5909 St. Claude Ave., New Orleans, 16000672

St. Helena Parish

Bazoon, William Lee and Eudora Courtney, Farmstead, George Wright Ln., Darlington, 16000673

West Baton Rouge Parish

Homestead Plantation, 1323 N. River Rd., Port Allen, 16000674

MAINE

Kennebec County

Waterville Main Street Historic District, 129-179 Main & 13 Appleton Sts., Waterville, 16000675

Oxford County

Fives Court, 55 Fairburn Way, Lovell, 16000676

Sagadahoc County

Robinhood Free Meetinghouse, 210 Robinhood Rd., Georgetown, 16000677

SOUTH CAROLINA

Aiken County

Warren Mill, Cty. Rd. P-1201 & SC 421, Warrenville, 16000678

UTAH

Salt Lake County

Fitzgerald House, (Draper, Utah MPS), 12934 S. Fort St., Draper, 16000679

Tooele County

Reddick Hotel—Ophir LDS Meetinghouse, 2nd Bldg. W. of Moore St., S. Side of Main St., Ophir, 16000680

A request to move has been received for the following resource:

ARKANSAS

Faulkner County

Springfield Bridge, Cty. Rd. 222 at Cadron Creek, Springfield, 88000660

Authority: 60.13 of 36 CFR part 60

Dated: August 16, 2016.
J. Paul Loether,
Chief, National Register of Historic Places/National Historic Landmarks Program.

[FR Doc. 2016-21142 Filed 9-1-16; 8:45 am]

BILLING CODE 4312-51-P